DEPARTMENT OF TRANSPORTATION

Federal Aviation Administration

14 CFR Part 39

[Docket No. FAA-2006-25927; Directorate Identifier 2006-CE-52-AD]

RIN 2120-AA64

Airworthiness Directives; M7 Aerospace LP SA226 and SA227 Series Airplanes

AGENCY: Federal Aviation Administration (FAA), Department of Transportation (DOT).

ACTION: Notice of proposed rulemaking (NPRM).

SUMMARY: We propose to supersede Airworthiness Directive (AD) 98-19-15 R1 and AD 2000-03-17, which apply to M7 Aerospace LP SA226 and SA227 series airplanes equipped with certain pitch trim actuators. AD 98-19-15 R1 currently requires you to incorporate changes into the Limitations Section of the FAA-approved Airplane Flight Manual (AFM) if certain part number (P/N) pitch trim actuators are installed. AD 2000-03-17 requires repetitive inspections and repetitive replacements of the pitch trim actuator. The repetitive inspection and repetitive replacement times vary depending on the combination of airplane model and pitch trim actuator P/N installed. We are proposing this AD because we have determined that reliance on critical repetitive inspections on aging commuter-class airplanes carries an unnecessary safety risk when a design change exists that could eliminate or, in certain instances, reduce the number of those critical inspections. Consequently, this proposed AD would retain all of the actions of the previously referenced ADs, place life limits on certain P/N pitch trim actuators, and require the replacement of certain P/N pitch trim actuators with one of an improved design. Once installed, the improved design pitch trim actuator would terminate the AFM limitations in this proposed AD and reduce the repetitive inspection and repetitive replacement requirements. We are proposing this AD to detect excessive freeplay or rod slippage in the pitch trim actuator, which, if not detected and corrected, could result in pitch trim actuator failure. We are also proposing this AD to lessen the severity of pitch upset if a pitch trim actuator mechanical failure occurs. These conditions could lead to possible loss of control.

DATES: We must receive comments on this proposed AD by June 29, 2007.

ADDRESSES: Use one of the following addresses to comment on this proposed AD:

• DOT Docket web site: Go to http://dms.dot.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

• Federal eRulemaking Portal: Go to http://www.regulations.gov. Follow the instructions for submitting comments.

For service information identified in this proposed AD, contact M7 Aerospace LP, P.O. Box 790490, San Antonio, Texas 78279-0490; telephone: (210) 824-9421, extension 7294.

FOR FURTHER INFORMATION CONTACT: Werner Koch, Aerospace Engineer, 2601 Meacham Blvd, Fort Worth, Texas 76137-4298; telephone: (817) 222-5133; fax: (817) 222-5960.

SUPPLEMENTARY INFORMATION:

Comments Invited

We invite you to send any written relevant data, views, or arguments regarding this proposed AD. Send your comments to an address listed under the ADDRESSES section. Include the docket number “FAA-2006-25927; Directorate Identifier 2006-CE-52-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

History of AD Actions

Failure of a Barber-Coleman pitch trim actuator, which allowed the horizontal stabilizer to move to a full aircraft nose up position on an M7 Aerospace LP Model SA227 airplane, caused us to issue AD 98-19-15 R1, Amendment 39-11507 (65 FR 1540, January 11, 2000). AD 98-19-15 R1 currently requires you to revise the Limitations Section of the FAA-approved AFM to limit the maximum indicated airspeed and increase the minimum crew size if a Barber-Coleman pitch trim actuator P/N 27-19008-001, P/N 27-19008-002, P/N 27-19008-004, or P/N 27-19008-005 is installed.

To avoid the above limitations, AD 98-19-15 R1 allows installation of a Barber-Coleman P/N 27-19008-006, Barber Coleman P/N 27-19008-007, Simmonds-Precision P/N DL5040M5, Simmonds-Precision P/N DL5040M6, or Simmonds-Precision P/N DL5040M8 pitch trim actuator. All airplane models are eligible for any of these installations. The applicable service bulletin depends on the airplane model and pitch trim actuator.

The FAA also issued AD 2000-03-17, Amendment 39-11576 (65 FR 8037, February 17, 2000), to establish inspection and replacement intervals for the pitch trim actuators. Inspection times and replacement times vary depending on the model of the airplane and the P/N of the pitch trim actuator installed.

Events Since Previous AD Actions

Since we issued ADs 98-19-15 R1 and 2000-03-17, the FAA has determined that the actions fall within the FAA's aging commuter-class aircraft policy, which briefly states that reliance on critical repetitive inspections carries an unnecessary safety risk when a design change exists that could eliminate or, in certain instances, reduce the number of those critical inspections. We also determined that the number of repetitive replacements could be reduced in these AD actions because of pitch trim actuator design changes.

The FAA has identified installation of Barber-Coleman P/N 27-19008-006, Barber-Coleman P/N 27-19008-007, or Simmonds-Precision P/N DL5040M8 pitch trim actuators on all SA226 and SA227 series airplanes or installation of Simmonds-Precision P/N DL5040M6 pitch trim actuators on all SA226 and SA227 series airplanes (except Models SA227-CC and SA227-DC) will significantly reduce the number of repetitive inspections and repetitive replacements currently required by AD 2000-03-17.

Relevant Service Information

We have reviewed the following Fairchild Aircraft service information:

• Fairchild Aircraft SA226 Series Service Letter (SL) 226-SL-005, Revised: August 3, 1999;

• Fairchild Aircraft SA227 Series SL 227-SL-011, Revised August 3, 1999;

• Fairchild Aircraft SA227 Series SL CC7-SL-028, Issued: August 12, 1999;

• Fairchild Aircraft SA226 Series SL 226-SL-014, Revised: February 1, 1999;

• Fairchild Aircraft SA227 Series SL 227-SL-031, Revised: February 1, 1999; and

• Fairchild Aircraft SA227 Series SL CC7-SL-021, Revised: February 1, 1999.

The service information describes procedures for inspecting the various pitch trim actuators that can be installed in SA226 and SA227 series airplanes. This service information is currently referenced in the existing ADs.

FAA's Determination and Requirements of the Proposed AD

We are proposing this AD because we evaluated all information and determined the unsafe condition described previously is likely to exist or develop on other products of the same type design. This proposed AD would supersede AD 98-19-15 R1 and AD 2000-03-17 with a new AD that would retain all of the actions of the previously referenced ADs, but limit the part numbers of the pitch trim actuators that can be used for replacement. This proposed AD would also place a life limit on Barber-Coleman P/N 27-19008-001, Barber-Coleman P/N 27-19008-002, Barber-Coleman P/N 27-19008-004, and Barber-Coleman P/N 27-19008-005 pitch trim actuators. This proposed AD would require you to use the service information described previously to perform these actions.

Costs of Compliance

We estimate that this proposed AD would affect 307 airplanes in the U.S. registry.

This proposed AD requires pitch trim actuators to either be inspected or overhauled. We have no way of determining the number of airplanes that may need the inspection or overhaul. We have presented the fleet cost as the lowest cost based on all airplanes needing the inspection and the highest cost based on all airplanes needing the overhaul. The actual fleet cost will be somewhere between the lowest and highest fleet cost presented.

We estimate the following costs to do the proposed inspection or overhaul:

Labor cost | Parts cost | Total cost per airplane | Total cost on U.S. operators
4 work-hours × $80 per hour = $320 | None | $320 | $98,240
4 work-hours × $80 per hour = $320 | $9,000 | 9,320 | 2,861,240

We estimate the following costs to do any necessary replacements that would be required based on the results of the proposed inspection or proposed mandatory replacement. We have no way of determining the number of airplanes that may need this replacement:

Labor cost | Parts cost | Total cost per airplane
4 work-hours × $80 per hour = $320 | $64,000 | $64,320

The replacement estimate is based on replacing the pitch trim actuator with a new Simmonds-Precision P/N DL5040M8 pitch trim actuator. If the pitch trim actuator is replaced with a different P/N FAA-approved pitch trim actuator or a zero-timed FAA-approved pitch trim actuator the cost to the owner/operator could be less.

The estimated costs represented in the above actions include the costs associated with AD 98-19-15 R1, AD 2000-03-17, and the costs of this proposed AD. The added cost impact this AD imposes upon an owner/operator over that already required by AD 98-19-15 R1 and AD 2000-03-17 is the eventual replacement of the pitch trim actuator if the airplane currently has a Barber-Coleman P/N 27-19008-001, P/N 27-19008-002, P/N 27-19008-004, or P/N 27-19008-005 installed.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 98-19-15 R1, Amendment 39-11507 (65 FR 1540, January 11, 2000), and AD 2000-03-17, Amendment 39-11576 (65 FR 8037, February 17, 2000); and by adding the following new AD:

M7 Aerospace LP (Type Certificate No. A5SW, A8SW, and A18SW formerly held by Fairchild Aircraft Incorporated): Docket No. FAA-2006-25927; Directorate Identifier 2006-CE-52-AD.

Comments Due Date

(a) We must receive comments on this airworthiness directive (AD) action by June 29, 2007.

Affected ADs

(b) This AD supersedes the following ADs:

(1) AD 98-19-15 R1, Amendment 39-11507; and

(2) AD 2000-03-17, Amendment 39-11576.

Applicability

(c) This AD applies to all Models SA226-AT, SA226-T, SA226-T(B), SA226-TC, SA227-AC (C-26A), SA227-AT, SA227-BC (C-26A), SA227-CC, SA227-DC (C-26B), SA227-PC, and SA227-TT airplanes, all serial numbers, that:

(1) are certificated in any category; and

(2) are equipped with pitch trim actuator Barber-Coleman part number (P/N) 27-19008-001, Barber-Coleman P/N 27-19008-002, Barber-Coleman P/N 27-19008-004, Barber-Coleman P/N 27-19008-005, Barber-Coleman P/N 27-19008-006, Barber-Coleman P/N 27-19008-007, Simmonds-Precision P/N DL5040M5, Simmonds-Precision P/N DL5040M6, or Simmonds-Precision P/N DL5040M8.

Unsafe Condition

(d) This AD results from reports of mechanical failure of the pitch trim actuator causing the horizontal stabilizer to move to full aircraft nose up. We are proposing this AD to detect excessive freeplay or rod slippage in the pitch trim actuator, which, if not detected and corrected, could result in pitch trim actuator failure. We are also proposing this AD to lessen the severity of pitch upset if a pitch trim actuator mechanical failure occurs. These conditions could lead to possible loss of control. In addition, we are proposing this AD to eliminate the use of certain pitch trim actuators that require frequent critical inspections or replacements.

Compliance

(e) To address this problem, you must do the following, unless already done:

(1) For airplanes with a Barber-Coleman pitch trim actuator, P/N 27-19008-001, P/N 27-19008-002, P/N 27-19008-004, or P/N 27-19008-005: Before further flight after September 25, 1998 (the effective date of AD 98-19-15), incorporate the text in paragraphs (e)(1)(i) and (e)(1)(ii) of this AD into the Limitations Section of the FAA-approved Airplane Flight Manual (AFM). The owner/operator holding at least a private pilot certificate as authorized by section 43.7 of the Federal Aviation Regulations (14 CFR 43.7) may insert the information specified in paragraphs (e)(1)(i) and (e)(1)(ii) of this AD into the AFM Limitations Section. This may be done by inserting a copy of this AD into the AFM. Make an entry into the aircraft records showing compliance with this portion of the AD in accordance with section 43.9 of the Federal Aviation Regulations (14 CFR 43.9).

(i) “Limit the maximum indicated airspeed to maneuvering airspeed (Va) as shown in the appropriate airplane flight manual (AFM)”; and

(ii) “The minimum crew required is two pilots.”

Note 1: Fairchild Service Letter 226-SL-017, Fairchild Service Letter 227-SL-033, and Fairchild Service Letter CC7-SL-023, all FAA Approved: August 26, 1998; Revised: September 2, 1998, address the subject matter of this AD.

Note 2: The before further flight compliance time of paragraph (e)(1) of this AD is retained from AD 98-19-15 R1.

Note 3: Installation of any FAA-approved pitch trim actuator other than the Barber-Coleman P/N 27-19008-001, P/N 27-19008-002, P/N 27-19008-004, or P/N 27-19008-005 terminates the requirements of paragraph (e)(1) of this AD.

(2) For all airplanes: Do the following initial inspection or overhaul and repetitive inspection or overhaul at the times specified in the table in paragraph (4) of this AD:

(i) For airplanes equipped with a Simmonds-Precision pitch trim actuator P/N DL5040M5, P/N DL5040M6, or P/N DL5040M8: Measure the freeplay of the pitch trim actuator and inspect the pitch trim actuator for rod slippage using the INSTRUCTIONS section of Fairchild Aircraft SA226 Series Service Letter (SL) 226-SL-005 or Fairchild Aircraft SA227 Series SL 227-SL-011, both Revised: August 3, 1999; or Fairchild Aircraft SA227 Series Service Letter CC7-SL-028, Issued: August 12, 1999, as applicable.

(ii) For airplanes equipped with Barber-Coleman pitch trim actuators, P/N 27-19008-001, P/N 27-19008-002, P/N 27-19008-004, or P/N 27-19008-005: Do a functional inspection of the pitch trim actuator using the INSTRUCTIONS section of Fairchild Aircraft SA226 Series SL 226-SL-014, Fairchild Aircraft SA227 Series SL 227-SL-031, or Fairchild Aircraft SA227 Series SL CC7-SL-021; all Revised: February 1, 1999; as applicable.

Note 4: The actions in paragraphs (e)(2)(i) and (e)(2)(ii) of this AD are the same as the actions in AD 2000-03-17. The only difference between this AD and AD 2000-03-17 is the addition of life limits to Barber-Coleman pitch trim actuators P/N 27-19008-001, P/N 27-19008-002, P/N 27-19008-004, or P/N 27-19008-005.

(iii) For airplanes equipped with Barber-Coleman pitch trim actuators, P/N 27-19008-006 or P/N 27-19008-007: Overhaul the pitch trim actuator following the applicable maintenance manual.

(3) For all airplanes: Before further flight replace the pitch trim actuator following the applicable maintenance manual when any of the following occurs:

(i) The pitch trim actuator is inspected following paragraphs (e)(2)(i) and (e)(2)(ii) of this AD and the freeplay limitations are exceeded, rod slippage is found, or a ratching sound occurs, as specified in the applicable service letters; or

(ii) The installed pitch trim actuator reaches its repetitive replacement time as specified in the table in paragraph (e)(4) of this AD.

(4) The table below presents the pitch trim actuators that could be installed and the compliance times for the initial inspections or overhaul, repetitive inspections or overhaul, and repetitive replacements required by this AD:

Table—Inspection/Overhaul and Replacement Requirements for Pitch Trim Actuators.
Condition | Initial inspection or overhaul | Repetitive inspection or overhaul | Repetitive replacement
(i) For all affected airplane models (except for the Models SA227-CC and SA227-DC) that have an original Simmonds-Precision pitch trim actuator, P/N DL5040M5, installed | Inspect following paragraph (e)(2)(i) of this AD before accumulating 3,000 hours time-in-service (TIS) on the pitch trim actuator or within 50 hours TIS after April 17, 1995 (the effective date of AD 93-15-02 R1), whichever occurs later | Inspect following paragraph (e)(2)(i) of this AD before accumulating 250 hours TIS after the initial inspection and repetitively thereafter at intervals not to exceed 250 hours TIS until accumulating the hours TIS specified in the paragraph (e)(4)(i) Repetitive Replacement column of this AD | Replace the pitch trim actuator with a Simmonds-Precision P/N DL5040M6, Simmonds-Precision P/N DL5040M8, Barber-Coleman P/N 27-19008-006, Barber-Coleman P/N 27-19008-007, or an FAA-approved equivalent pitch trim actuator before accumulating 5,000 hours TIS on the pitch trim actuator, 500 hours TIS after the initial inspection, or within 30 days after the effective date of this AD, whichever occurs later.
(ii) For all affected airplane models (except for the Models SA227-CC and SA227-DC) that have a replacement Simmonds-Precision pitch trim actuator, P/N DL5040M5, installed | Inspect following paragraph (e)(2)(i) of this AD before accumulating 5,000 hours TIS on the pitch trim actuator or within 50 hours TIS after April 17, 1995 (the effective date of AD 93-15-02 R1), whichever occurs later | Inspect following paragraph (e)(2)(i) of this AD before accumulating 300 hours TIS after the initial inspection and repetitively thereafter at intervals not to exceed 300 hours TIS until accumulating the hours TIS specified in the paragraph (e)(4)(ii) Repetitive Replacement column of this AD | Replace the pitch trim actuator with a Simmonds-Precision P/N DL5040M6, Simmonds-Precision P/N DL5040M8, Barber-Coleman P/N 27-19008-006, Barber-Coleman P/N 27-19008-007, or an FAA-approved equivalent pitch trim actuator before accumulating 6,500 hours TIS on the pitch trim actuator or within 30 days after the effective date of this AD, whichever occurs later.
(iii) For all affected airplane models (except for the Models SA227-CC and SA227-DC) that have a replacement Simmonds-Precision pitch trim actuator, P/N DL5040M6, installed. This part can be new, modified from a P/N DL5040M5 pitch trim actuator, or overhauled and zero-timed | Inspect following paragraph (e)(2)(i) of this AD before accumulating 7,500 hours TIS on the pitch trim actuator or within 50 hours TIS after April 17, 1995 (the effective date of AD 93-15-02 R1), whichever occurs later | Inspect following paragraph (e)(2)(i) of this AD before accumulating 300 hours TIS after the initial inspection and repetitively thereafter at intervals not to exceed 300 hours TIS until accumulating the hours TIS specified in the paragraph (e)(4)(iii) Repetitive Replacement column of this AD | Replace the pitch trim actuator with a Simmonds-Precision P/N DL5040M6, Simmonds-Precision P/N DL5040M8, Barber-Coleman P/N 27-19008-006, Barber-Coleman P/N 27-19008-007, or an FAA-approved equivalent pitch trim actuator before accumulating 9,900 hours TIS on the pitch trim actuator or within 30 days after the effective date of this AD, whichever occurs later.
(iv) For all affected airplane models (except for the Models SA227-CC and SA227-DC) that have a replacement Simmonds-Precision pitch trim actuator, P/N DL5040M5, installed that was overhauled and zero-timed where both nut assemblies, P/N AA56142, were replaced with new assemblies during overhaul | Inspect following paragraph (e)(2)(i) of this AD before accumulating 5,000 hours TIS on the pitch trim actuator or within 50 hours TIS after April 17, 1995 (the effective date of AD 93-15-02 R1), whichever occurs later | Inspect following paragraph (e)(2)(i) of this AD before accumulating 300 hours TIS after the initial inspection and repetitively thereafter at intervals not to exceed 300 hours TIS until accumulating the hours TIS specified in the paragraph (e)(4)(iv) Repetitive Replacement column of this AD | Replace the pitch trim actuator with a Simmonds-Precision P/N DL5040M6, Simmonds-Precision P/N DL5040M8, Barber-Coleman P/N 27-19008-006, Barber-Coleman P/N 27-19008-007, or an FAA-approved equivalent pitch trim actuator before accumulating 6,500 hours TIS on the pitch trim actuator or within 30 days after the effective date of this AD, whichever occurs later.
(v) For all affected airplane models (except for the Models SA227-CC and SA227-DC) that have a replacement Simmonds-Precision P/N DL5040M5 pitch trim actuator installed that was overhauled and zero-timed where both nut assemblies, P/N AA56142, were not replaced with new assemblies during overhaul | Inspect following paragraph (e)(2)(i) of this AD before accumulating 3,000 hours TIS on the pitch trim actuator or within 50 hours TIS after April 17, 1995 (the effective date of AD 93-15-02 R1), whichever occurs later | Inspect following paragraph (e)(2)(i) of this AD before accumulating 250 hours TIS after the initial inspection and repetitively thereafter at intervals not to exceed 250 hours TIS until accumulating the hours TIS specified in the paragraph (e)(4)(v) Repetitive Replacement column of this AD | Replace the pitch trim actuator with a Simmonds-Precision P/N DL5040M6, Simmonds-Precision P/N DL5040M8, Barber-Coleman P/N 27-19008-006, Barber-Coleman P/N 27-19008-007, or an FAA-approved equivalent pitch trim actuator before accumulating 5,000 hours TIS on the pitch trim actuator or within 30 days after the effective date of this AD, whichever occurs later.
(vi) For all affected airplane models (except for the Models SA227-CC and SA227-DC) that have a newly fabricated or over-hauled and zero-timed Barber-Colman pitch trim actuator, P/N 27-19008-001, P/N 27-19008-002, P/N 27-19008-004, or P/N 27-19008-005 | Inspect following paragraph (e)(2)(ii) of this AD before accumulating 500 hours total TIS on the pitch trim actuator or within 50 hours TIS after December 1, 1997 (the effective date of AD 97-23-01), whichever occurs later | Inspect following paragraph (e)(2)(ii) of this AD before accumulating 300 hours TIS after the initial inspection and repetitively thereafter at intervals not to exceed 300 hours TIS until accumulating the hours TIS specified in the paragraph (e)(4)(vi) Repetitive Replacement column of this AD | Replace the pitch trim actuator with a Simmonds-Precision P/N DL5040M6, Simmonds-Precision P/N DL5040M8, Barber-Coleman P/N 27-19008-006, Barber-Coleman P/N 27-19008-007, or an FAA-approved equivalent pitch trim actuator before accumulating 5,000 hours TIS on the pitch trim actuator or within 30 days after the effective date of this AD, whichever occurs later.
(vii) For the Models SA227-CC and SA227-DC that have a Simmonds-Precision pitch trim actuator, P/N DL5040M5 or P/N DL5040M6, installed | None | None | Replace the pitch trim actuator with a Simmonds-Precision pitch trim actuator P/N DL5040M8, a Barber-Coleman P/N 27-19008-006 or P/N 27-19008-007, or an FAA-approved equivalent before accumulating 1,500 hours TIS on the pitch trim actuator or within 30 days after the effective date of this AD, whichever occurs later.
(viii) For the Models SA227-CC and SA227-DC that have a newly fabricated or over-hauled and zero-timed Barber-Colman pitch trim actuator, P/N 27-19008-001, P/N 27-19008-002, P/N 27-19008-004, or P/N 27-19008-005 | Inspect following paragraph (e)(2)(ii) of this AD before accumulating 500 hours total TIS on the pitch trim actuator or within 50 hours TIS after December 1, 1997 (the effective date of AD 97-23-01), whichever occurs later | Inspect following paragraph (e)(2)(ii) of this AD before accumulating 300 hours TIS after the initial inspection and repetitively thereafter at intervals not to exceed 300 hours TIS until accumulating the hours TIS specified in the paragraph (e)(4)(viii) Repetitive Replacement column of this AD | Replace the pitch trim actuator with a Simmonds-Precision P/N DL5040M8, Barber-Coleman P/N 27-19008-006, Barber-Coleman P/N 27-19008-007, or an FAA-approved equivalent pitch trim actuator before accumulating 5,000 hours TIS on the pitch trim actuator or within 30 days after the effective date of this AD, whichever occurs later.
(ix) For all affected airplanes with a Simmonds-Precision pitch trim actuator, P/N DL5040M8, installed | Inspect following paragraph (e)(2)(i) of this AD before accumulating 7,500 hours TIS on the pitch trim actuator or within the next 50 hours TIS after April 10, 2000 (the effective date of AD 2000-03-17), whichever occurs later | Inspect following paragraph (e)(2)(i) of this AD before accumulating 300 hours TIS after the initial inspection and repetitively thereafter at intervals not to exceed 300 hours TIS until accumulating the hours TIS specified in paragraph (e)(4)(ix) Repetitive Replacement column of this AD | Replace the pitch trim actuator with a Simmonds-Precision pitch trim actuator P/N DL5040M8, a Barber-Coleman P/N 27-19008-006 or P/N 27-19008-007, or an FAA-approved equivalent before accumulating 9,900 hours TIS on the pitch trim actuator or within 30 days after the effective date of this AD, whichever occurs later.
(x) For all affected airplanes with a Barber-Colman P/N 27-19008-006 or 27-19008-007 pitch trim actuator installed | Overhaul following paragraph (e)(2)(iii) of this AD before accumulating 2,000 hours TIS on the pitch trim actuator | Overhaul following paragraph (e)(2)(iii) of this AD before accumulating 2,000 hours TIS on the pitch trim actuator | No replacement requirements.

(5) For all airplane models except Models SA227-CC and SA227-DC: As of the effective date of this AD, do not install as a replacement any of the following pitch trim actuators or FAA-approved equivalent P/N:

(i) Barber-Colman P/N 27-19008-001;

(ii) Barber-Colman P/N 27-19008-002;

(iii) Barber-Colman P/N 27-19008-004;

(iv) Barber-Colman P/N 27-19008-005; or

(v) Simmonds-Precision P/N DL5040M5.

(6) For all airplane Models SA227-CC and SA227-DC: As of the effective date of this AD, do not install as a replacement any of the following pitch trim actuators or FAA-approved equivalent P/N:

(i) Barber-Colman P/N 27-19008-001;

(ii) Barber-Colman P/N 27-19008-002;

(iii) Barber-Colman P/N 27-19008-004;

(iv) Barber-Colman P/N 27-19008-005;

(v) Simmonds-Precision P/N DL5040M5; or

(vi) Simmonds-Precision P/N DL5040M6.

Alternative Methods of Compliance (AMOCs)

(f) The Manager, Fort Worth Airplane Certification Office (ACO), FAA, ATTN: Werner Koch, Aerospace Engineer, 2601 Meacham Blvd, Fort Worth, Texas 76137-4298, has the authority to approve AMOCs for this AD, if requested using the procedures found in 14 CFR 39.19. Before using any approved AMOC on any airplane to which the AMOC applies, notify your appropriate principal inspector (PI) in the FAA Flight Standards District Office (FSDO), or lacking a PI, your local FSDO.

Related Information

(g) To get copies of the service information referenced in this AD, contact M7 Aerospace LP, 10823 N. E. Entrance, San Antonio, Texas 78216. To view the AD docket, go to the Docket Management Facility; U.S. Department of Transportation, 400 Seventh Street, SW., Nassif Building, Room PL-401, Washington, DC, or on the Internet at http://dms.dot.gov. The docket number is Docket No. FAA-2006-25927; Directorate Identifier 2006-CE-52-AD.

Issued in Kansas City, Missouri, on April 20, 2007.
Charles L. Smalley,
Acting Manager, Small Airplane Directorate, Aircraft Certification Service.

[FR Doc. E7-8163 Filed 4-27-07; 8:45 am]

BILLING CODE 4910-13-P